DEPARTMENT OF EDUCATION

Privacy Act of 1974; System of Records—Evaluation of the Impact of Supplemental Literacy Interventions in Freshman Academies

AGENCY: Institute of Education Sciences, Department of Education.

ACTION: Notice of a new system of records.

SUMMARY: In accordance with the Privacy Act of 1974, as amended, the Department of Education (Department) publishes this notice of a new system of records entitled “Evaluation of the Impact of Supplemental Literacy Interventions in Freshman Academies” (18-13-12). This evaluation, which is also called the Adolescent Literacy Project, has been commissioned by the National Center for Education Evaluation and Regional Assistance at the Department's Institute of Education Sciences (IES). It is being conducted by MDRC in collaboration with the American Institutes for Research (AIR). IES has been collaborating with the Department's Office of Vocational and Adult Education (OVAE) to coordinate the study of supplemental literacy interventions within OVAE's Smaller Learning Communities (SLC) program.

The study will address the following questions:

(1) Do specific supplemental reading programs that support personalized and intensive instruction for striving ninth-grade readers significantly improve reading proficiency?

(2) What are the effects of supplemental reading programs on in-school outcomes such as attendance and course-taking behavior, and on longer-term outcomes such as student performance on State assessments in the tenth or eleventh grade?

(3) Which students benefit most from participation in the programs?

The system will contain information about two cohorts of approximately 3,200 high school freshmen each in SLCs in eight to twelve school districts yet to be determined. Half of these students will be participants in a supplemental literacy program, and half will be in a control group. The system will include these students' names, addresses, demographic information such as race/ethnicity, age, gender, and educational background, their results on literacy assessments, some of their school records data such as attendance, state test results, course performance, and classes taken, and their responses to a survey about their attitude toward reading and their reading and writing activities during the school year. The system will also include responses to survey and interview questions from teachers of these students, and possibly other school staff working with the literacy classes, about their backgrounds and the supplemental literacy interventions.

DATES: The Department seeks comment on the new system of records described in this notice, in accordance with the requirements of the Privacy Act. We must receive your comments on the proposed routine uses for the system of records referenced in this notice on or before July 25, 2005.

The Department filed a report describing the new system of records covered by this notice with the Chair of the Senate Committee on Homeland Security and Governmental Affairs, the Chair of the House Committee on Government Reform, and the Administrator of the Office of Information and Regulatory Affairs, Office of Management and Budget (OMB) on June 21, 2005. This system of records will become effective at the later date of—(1) the expiration of the 40 day period for OMB review on August 1, 2005 or (2) July 25, 2005, unless the system of records needs to be changed as a result of public comment or OMB review.

ADDRESSES: Address all comments about the proposed routine uses to Dr. Ricky Takai, Associate Commissioner, Evaluation Division, National Center for Education Evaluation and Regional Assistance, Institute of Education Sciences, U.S. Department of Education, 555 New Jersey Avenue, NW., room 502D, Washington, DC 20208. Telephone: (202) 208-7083. If you prefer to send comments through the Internet, use the following address: comments@ed.gov.

You must include the term “Supplemental Literacy Interventions” in the subject line of the electronic message.

During and after the comment period, you may inspect all comments about this notice in room 502D, 555 New Jersey Avenue, NW., Washington, DC, between the hours of 8 a.m. and 4:30 p.m., eastern time, Monday through Friday of each week except Federal holidays.

Assistance to Individuals With Disabilities in Reviewing the Rulemaking Record

On request, we supply an appropriate aid, such as a reader or print magnifier, to an individual with a disability who needs assistance to review the comments or other documents in the public rulemaking record for this notice. If you want to schedule an appointment for this type of aid, please contact the person listed under FOR FURTHER INFORMATION CONTACT.

FOR FURTHER INFORMATION CONTACT: Dr. Ricky Takai. Telephone: (202) 208-7083. If you use a telecommunications device for the deaf (TDD), you may call the Federal Relay Service (FRS) at 1-800-877-8339.

Individuals with disabilities may obtain this document in an alternative format (e.g., Braille, large print, audiotape, or computer diskette) on request to the contact person listed in this section.

SUPPLEMENTARY INFORMATION:

Introduction

The Privacy Act (5 U.S.C. 552a) (Privacy Act) requires the Department to publish in the Federal Register this notice of a new system of records maintained by the Department. The Department's regulations implementing the Act are contained in the Code of Federal Regulations (CFR) in 34 CFR part 5b.

The Privacy Act applies to information about individuals that contain individually identifiable information and that is retrieved by a unique identifier associated with each individual, such as a name or social security number. The information about each individual is called a “record,” and the system, whether manual or computer-based, is called a “system of records.” The Privacy Act requires each agency to publish notices of systems of records in the Federal Register and to prepare reports to the OMB and Congress whenever the agency publishes a new system of records.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: June 21, 2005.
Grover Whitehurst,
Director, Institute of Education Sciences.

For the reasons discussed in the preamble, the Director of the Institute of Education Sciences, U.S. Department of Education, publishes a notice of a new system of records to read as follows:

18-13-12

SYSTEM NAME:

Evaluation of the Impact of Supplemental Literacy Interventions in Freshman Academies (The Adolescent Literacy Project).

SECURITY CLASSIFICATION:

None.

SYSTEM LOCATION:

(1) Evaluation Division, National Center for Education Evaluation and Regional Assistance, Institute of Education Sciences, U.S. Department of Education, 555 New Jersey Avenue, NW., room 502D, Washington, DC 20208.

(2) MDRC, 16 East 34th Street, New York, NY 10016.

(3) American Institutes for Research, 1000 Thomas Jefferson Street, NW., Washington, DC 20007.

CATEGORIES OF INDIVIDUALS COVERED BY THE SYSTEM:

This system contains records on adolescents, teachers, and project staff participating in the literacy interventions in the Adolescent Literacy Project. The goal of this study is to establish and evaluate the effects of two supplemental literacy programs for students who enter ninth grade with reading skills well below grade level. A distinctive aspect of this project is that the schools mounting the literacy programs will be ones that already operate Smaller Learning Communities (SLCs) that address the transition freshman students are making into high school, sometimes referred to as “Freshman Academies.” Freshman Academies should provide a more supportive environment within which the supplemental literacy interventions can be implemented and sustained for this study.

CATEGORIES OF RECORDS IN THE SYSTEM:

This system consists of information about two cohorts of approximately 3,200 high school freshmen each, one in the 2005-2006 school year and the other in the 2006-2007 school year, in SLC in eight to twelve school districts yet to be determined. Half of these students will be participants in supplemental literacy program, and half will be in a control group. The system will include these students' names, addresses, demographic information such as race/ethnicity, age, gender, and educational background, their results on literacy assessments, some of their school records data such as attendance, state test results, course performance, and classes taken, and their attitude toward reading and their reading and writing activities during the school year. The system will also include responses to survey and interview questions from teachers of these students, and possibly other school staff working with the literacy classes. These surveys and interviews will request information about the teachers' backgrounds, professional experience, and training, as well as their observations and impressions of the supplemental literacy interventions.

AUTHORITY FOR MAINTENANCE OF THE SYSTEM:

The evaluation being conducted is authorized under sections 171(b) and 173 of the Education Sciences Reform Act of 2002 (ESRA) (20 U.S.C. 9561(b) and 9563). The SLC program is authorized under Title V, Part D, Subpart 4 of the Elementary and Secondary Education Act of 1965 (ESEA) (20 U.S.C. 7249), as amended by the No Child Left Behind Act of 2001 (Pub. L. 107-110).

PURPOSE(S):

The information in this system is used for the following purpose: To study promising organizational and instructional strategies that will be used in the SLC program, as authorized by the ESEA, as amended. In particular, this system is necessary to provide information for analyses of the effectiveness of specific literacy interventions for ninth graders that will be used in SLCs.

ROUTINE USES OF RECORDS MAINTAINED IN THE SYSTEM, INCLUDING CATEGORIES OF USERS AND THE PURPOSES OF SUCH USES:

The Department may disclose information contained in a record in this system of records under the routine uses listed in this system of records without the consent of the individual if the disclosure is compatible with the purposes for which the record was collected. These disclosures may be made on a case-by-case basis or, if the Department has complied with the computer matching requirements of the Act, under a computer matching agreement. Any disclosure of individually identifiable information from a record in this system must also comply with the requirements of section 183 of the ESRA (20 U.S.C. 9573) providing for confidentiality standards that apply to all collections, reporting and publication of data by IES.

(1) Freedom of Information Act (FOIA) Advice Disclosure. The Department may disclose records to the U.S. Department of Justice and the Office of Management and Budget if the Department concludes that disclosure is desirable or necessary in determining whether particular records are required to be disclosed under the FOIA.

(2) Contract Disclosure. If the Department contracts with an entity for the purposes of performing any function that requires disclosure of records in this system to employees of the contractor, the Department may disclose the records to those employees. Before entering into such a contract, the Department shall require the contractor to maintain Privacy Act safeguards as required under 5 U.S.C. 552a(m) with respect to the records in the system.

(3) Research Disclosure. The Department may disclose records to a researcher if an appropriate official of the Department determines that the individual or organization to which the disclosure would be made is qualified to carry out specific research related to functions or purposes of this system of records. The official may disclose records from this system of records to that researcher solely for the purpose of carrying out that research related to the functions or purposes of this system of records. The researcher shall be required to maintain Privacy Act safeguards with respect to the disclosed records.

DISCLOSURE TO CONSUMER REPORTING AGENCIES:

Not applicable to this system notice.

POLICIES AND PRACTICES FOR STORING, RETRIEVING, ACCESSING, RETAINING, AND DISPOSING OF RECORDS IN THE SYSTEM:

STORAGE:

The Department maintains records on CD-ROM, and the contractor and subcontractor maintain data for this system on computers and in hard copy.

RETRIEVABILITY:

Records in this system are indexed by a number assigned to each individual that is cross referenced by the individual's name on a separate list.

SAFEGUARDS:

All physical access to the Department's site and to the sites of the Department's contractor and subcontractor, where this system of records is maintained, is controlled and monitored by security personnel. The computer system employed by the Department offers a high degree of resistance to tampering and circumvention. This security system limits data access to Department and contract staff on a “need to know” basis, and controls individual users” ability to access and alter records within the system. The contractor, MDRC, and its subcontractor, AIR, have established similar sets of procedures at their sites to ensure confidentiality of data. Their systems ensure that information identifying individuals is in files physically separated from other research data. They will maintain security of the complete set of all master data files and documentation. Access to individually identifiable data will be strictly controlled. At each site all data will be kept in locked file cabinets during nonworking hours, and work on hardcopy data will take place in a single room, except for data entry. Physical security of electronic data will also be maintained. Security features that protect project data include password-protected accounts that authorize users to use the MDRC or AIR system but to access only specific network directories and network software; user rights and directory and file attributes that limit those who can use particular directories and files and determine how they can use them; e-mail passwords that authorize the user to access mail services and additional security features that the network administrators establish for projects as needed. The contractor and subcontractor employees who “maintain” (collect, maintain, use, or disseminate) data in this system shall comply with the requirements of the confidentiality standards in section 183 of the ESRA (20 U.S.C. 9573).

RETENTION AND DISPOSAL:

Records are maintained and disposed of in accordance with the Department's Records Disposition Schedules, Part 3, Items 2b and 5a.

SYSTEM MANAGER AND ADDRESS:

Associate Commissioner, Evaluation Division, National Center for Education Evaluation and Regional Assistance, Institute of Education Sciences, U.S. Department of Education, 555 New Jersey Avenue, NW., room 502D, Washington, DC 20208.

NOTIFICATION PROCEDURE:

If you wish to determine whether a record exists regarding you in the system of records, contact the systems manager. Your request must meet the requirements of regulations at 34 CFR 5b.5, including proof of identity.

RECORD ACCESS PROCEDURES:

If you wish to gain access to your record in the system of records, contact the system manager. Your request must meet the requirements of regulations at 34 CFR 5b.5, including proof of identity.

CONTESTING RECORD PROCEDURES:

If you wish to contest the content of a record regarding you in the system of records, contact the system manager. Your request must meet the requirements of the regulations at 34 CFR 5b.7, including proof of identity.

RECORD SOURCE CATEGORIES:

This system consists of information about two cohorts of approximately 3,200 high school freshmen each in SLCs in eight to twelve school districts yet to be determined. The system will include information taken directly from the students. It will also include information from the students' education records, such as attendance, State test results, course performance, and classes taken. The system will also include responses to survey and interview questions from teachers of these students, and possibly other school staff working with the literacy classes.

EXEMPTIONS CLAIMED FOR THE SYSTEM:

None.

[FR Doc. 05-12590 Filed 6-23-05; 8:45 am]

BILLING CODE 4000-01-P